DEPARTMENT OF TRANSPORTATION

Office of the Secretary

Aviation Proceedings, Agreements Filed During Week Ending October 19, 2001

The following Agreements were filed with the Department of Transportation under provisions of 49 U.S.C. sections 412 and 414. Answers may be filed within 21 days after the filing of the applications.

Docket Number: OST-2001-10843.

Date Filed: October 15, 2001.

Parties: Members of the International Air Transport Association.

Subject: CTC Comp 0369 data 16 October 2001, Mail Vote 168—Resolution 010tt, Special ECAA Amending/Rescission Resolution, Intended effective date: 1 November 2001 for implementation, 1 February 2002.

Docket Number: OST-2001-10849.

Date Filed: October 15, 2001.

Parties: Members of the International Air Transport Association.

Subject: PTC3 0514 dated 16 October 2001, Mail Vote 154—Resolution 010s, TC3 Special Passenger Amending Resolution between China and Korea, Intended effective date: 30 October 2001.

Docket Number: OST-2001-10863.

Date Filed: October 17, 2001.

Parties: Members of the International Air Transport Association.

Subject: PTC123 0155/0156 dated 24 September 2001, Mail Votes 148/149 (Summary attached), TC123 Mid/South Atlantic Resolutions, PTC123 0162/0163 dated 19 October 2001 (Adoption), Report: PTC123 0160 dated 16 October 2001. Intended effective dates: 1 November 2001, 1 March 2002.

Dorothy Y. Beard,
Federal Register Liaison.

[FR Doc. 01-27737 Filed 11-2-01; 8:45 am]

BILLING CODE 4910-62-P